DEPARTMENT OF DEFENSE

Department of the Army

Army Science Board; Notice of Open Meeting

In accordance with Section 10(a)(2) of the Federal Advisory Committee Act (P.L. 92-463), announcement is made of the following Committee Meeting:

Name of Committee: Army Science Board (ASB).

Date(s) of Meeting: 11-21 July 2005.

Time(s) of Meeting: 0800-1700, 11-15 July 2005, Report Writing; 0800-1700, 18-21 July 2005, Report Writing.

Place: The Beckman Center, Irvine, CA.

1. Agenda: The Army Science Board FY05 Summer Studies, Modularity and Best Practices are holding a Report Writing Session both 11-15 and 18-21 July 2005. The session will be held at The Beckman Center, Irvine, CA. The sessions will begin at 0800 hrs on the 11th and will end at approximately 1700 hrs on the 15th, and then again from the 18th to the 21st of July. For further information regarding the ASB Modularity study, please contact Mr. Ivan Martinez at (703) 704-2501 or e-mail ivan.martinez@nvl.army.mil. For further information regarding the Best Practices study, please contact MAJ Harry Buhl at (865) 574-8798 or e-mail buhlha@ornl.gov.

Wayne Joyner,
Program Support Specialist, Army Science Board.

[FR Doc. 05-13564 Filed 7-8-05; 8:45 am]

BILLING CODE 3710-08-M